DEPARTMENT OF HOMELAND SECURITY

Bureau of Customs and Border Protection

DEPARTMENT OF THE TREASURY

19 CFR Parts 10, 24, 102, 162, 163 and 178

[Docket No. USCBP-2007-0063; CBP Dec. 08-28]

RIN 1505-AB81

United States-Bahrain Free Trade Agreement

AGENCIES: Customs and Border Protection, Department of Homeland Security; Department of the Treasury.

ACTION: Final rule.

SUMMARY: This document adopts as a final rule, with two technical corrections, interim amendments to title 19 of the Code of Federal Regulations which were published in the Federal Register on October 16, 2007, as CBP Dec. 07-81 to implement the preferential tariff treatment and other customs-related provisions of the United States-Bahrain Free Trade Agreement entered into by the United States and the Kingdom of Bahrain.

DATES: This final rule is effective on August 22, 2008.

FOR FURTHER INFORMATION CONTACT: Textile Operational Aspects: Robert Abels, Office of International Trade, (202) 863-6503. Other Operational Aspects: Heather Sykes, Office of International Trade, (202) 863-6099. Legal Aspects: Karen Greene, Office of International Trade, (202) 572-8838.

SUPPLEMENTARY INFORMATION: On September 14, 2004, the United States and the Kingdom of Bahrain (the “Parties”) signed the U.S.-Bahrain Free Trade Agreement (“BFTA”). The stated objectives of the BFTA include creating new employment opportunities and raising the standard of living for the citizens of the Parties by liberalizing and expanding trade between them; enhancing the competitiveness of the enterprises of the Parties in global markets; establishing clear and mutually advantageous rules governing trade between the Parties; eliminating bribery and corruption in international trade and investment; fostering creativity and innovation by improving technology and enhancing the protection and enforcement of intellectual property rights; strengthening the development and enforcement of labor and environmental laws and policies; and establishing an expanded free trade area in the Middle East, thereby contributing to economic liberalization and development in the region.

The provisions of the US-BFTA were adopted by the United States with the enactment on January 11, 2006, of the United States-Bahrain Free Trade Area Implementation Act (the “Act”), Public Law 109-169, 119 Stat. 3581 (19 U.S.C. 3805 note). Section 205 of the Act requires that regulations be prescribed as necessary.

On July 27, 2006, the President signed Proclamation 8039 to implement the provisions of the BFTA. The proclamation, which was published in the Federal Register on August 1, 2006 (71 FR 43635), modified the Harmonized Tariff Schedule of the United States (“HTSUS”) as set forth in Annexes I and II of Publication 3830 of the U.S. International Trade Commission. The modifications to the HTSUS included the addition of new General Note 30, incorporating the relevant BFTA rules of Origin as set forth in the Act, and the insertion throughout the HTSUS of the preferential duty rates applicable to individual products under the BFTA where the special program indicator “BH” appears in parenthesis in the “Special” rate of duty subcolumn. The modifications to the HTSUS also included a new Subchapter XIV to Chapter 99 to provide for temporary tariff rate quotas and applicable safeguards implemented by the BFTA.

U.S. Customs and Border Protection (“CBP”) is responsible for administering the provisions of the BFTA and the Act that relate to the importation of goods into the United States from Bahrain. Those customs-related BFTA provisions that require implementation through regulation include certain tariff and non-tariff provisions within Chapter One (Initial Provisions and Definitions), Chapter Two (National Treatment and Market Access for Goods), Chapter Three (Textiles and Apparel), Chapter Four (Rules of Origin), and Chapter Five (Customs Administration). On October 16, 2007, CBP published CBP Dec. 07-81 in the Federal Register (72 FR 58511), setting forth interim amendments to implement the preferential tariff treatment and customs-related provisions of the BFTA. For a more detailed discussion of the BFTA provisions that were implemented by the interim amendments, please see CBP Dec. 07-81.

In order to provide transparency and facilitate their use, the majority of the BFTA implementing regulations set forth in CBP Dec. 07-81 were included within new Subpart N in Part 10 of the CBP regulations (19 CFR Part 10). However, in those cases in which BFTA implementation was more appropriate in the context of an existing regulatory provision, the BFTA regulatory text was incorporated in an existing part within the CBP regulations. CBP Dec. 07-81 also set forth several cross-references and other consequential changes to existing regulatory provisions to clarify the relationship between those existing provisions and the new BFTA implementing regulations.

Although the interim regulatory amendments were promulgated without prior public notice and comment procedures and took effect on October 16, 2007, CBP Dec. 07-81 provided for the submission of public comments which would be considered before adoption of the interim regulations as a final rule, and the prescribed public comment period closed on December 17, 2007. No comments were received in response to the solicitation of public comments in CBP Dec. 07-81.

Conclusion

Accordingly, CBP has determined that the interim regulations published as CBP Dec. 07-81 should be adopted as a final rule with two technical corrections. The technical corrections to the interim regulatory text effected by this final rule involve § 10.804, which concerns the declaration, and § 10.822, which concerns the transshipment of non-Originating fabric or apparel goods. Paragraph (a)(2)(vi) of § 10.804 has been revised by adding the word “the” immediately before the word “territory” and paragraph (b) of § 10.822 has been revised by replacing the word “terms” with the word “term”.

Executive Order 12866

CBP has determined that this document is not a regulation or rule subject to the provisions of Executive Order 12866 of September 30, 1993 (58 FR 51735, October 1993), because it pertains to a foreign affairs function of the United States and implements an international agreement and, therefore, is specifically exempted by section 3(d)(2) of Executive Order 12866.

Regulatory Flexibility Act

CBP Dec. 07-81 was issued as an interim rule rather than a notice of proposed rulemaking because CBP had determined that the interim regulations involve a foreign affairs function of the United States pursuant to § 553(a)(1) of the APA. Because no notice of proposed rulemaking was required, the provisions of the Regulatory Flexibility Act, as amended (5 U.S.C. 601 et seq.), do not apply. Accordingly, this final rule is not subject to the regulatory analysis requirements or other requirements of 5 U.S.C. 603 and 604.

Paperwork Reduction Act

The collection of information in this final rule has previously been reviewed and approved by the Office of Management and Budget in accordance with the requirements of the Paperwork Reduction Act (44 U.S.C. 3507) under control number 1651-0130. The collections of information in these regulations are in §§ 10.803, 10.804, 10.818, and 10.821. This information is required in connection with claims for preferential tariff treatment and for the purpose of the exercise of other rights under the BFTA and the Act and will be used by CBP to determine eligibility for a tariff preference or other rights or benefits under the BFTA and the Act. The likely respondents are business organizations including importers, exporters, and manufacturers.

The estimated average annual burden associated with the collection of information in this final rule is 0.2 hours per respondent or record keeper. Under the Paperwork Reduction Act, an agency may not conduct or sponsor, and a person is not required to respond to, a collection of information unless it displays a valid OMB control number.

Signing Authority

This document is being issued in accordance with § 0.1(a)(1) of the CBP Regulations (19 CFR 0.1(a)(1)) pertaining to the authority of the Secretary of the Treasury (or his/her delegate) to approve regulations related to certain customs revenue functions.

List of Subjects

19 CFR Part 10

Alterations, Bonds, Customs duties and inspection, Exports, Imports, Preference programs, Repairs, Reporting and recordkeeping requirements, Trade agreements.

19 CFR Part 24

Financial and accounting procedures.

19 CFR Part 102

Customs duties and inspections, Imports, Reporting and recordkeeping requirements, Rules of Origin, Trade agreements.

19 CFR Part 162

Administrative practice and procedure, Customs duties and inspection, Penalties, Trade agreements.

19 CFR Part 163

Administrative practice and procedure, Customs duties and inspection, Exports, Imports, Reporting and recordkeeping requirements, Trade agreements.

19 CFR Part 178

Administrative practice and procedure, Exports, Imports, Reporting and recordkeeping requirements.

Amendments to the CBP Regulations

Accordingly, the interim rule amending Parts 10, 24, 102, 162, 163, and 178 of the CBP regulations (19 CFR Parts 10, 24, 102, 162, 163, and 178), which was published at 72 FR 58511 on October 16, 2007, is adopted as a final rule with two technical corrections as discussed above and set forth below.

PART 10—ARTICLES CONDITIONALLY FREE, SUBJECT TO A REDUCED RATE, ETC.

1. The general authority citation for Part 10 and the specific authority for Subpart N continue to read as follows:

Authority: 19 U.S.C. 66, 1202 (General Note 3(i), Harmonized Tariff Schedule of the United States), 1321, 1481, 1484, 1498, 1508, 1623, 1624, 3314;

* * * * *

Section 10.801 through 10.829 also issued under 19 U.S.C. 1202 (General Note 30, HTSUS) and Public Law 109-169, 119 Stat. 3581 (19 U.S.C. 3805 note).

§ 10.804 [Amended]

2. In § 10.804, paragraph (a)(2)(vi) is amended by adding the word “the” immediately before the word “territory”.

§ 10.822 [Amended]

3. In § 10.822, paragraph (b) is amended by removing the word “terms” in the first sentence and adding, in its place, the word “term”.

Jayson P. Ahern,
Acting Commissioner, U.S. Customs and Border Protection.
Approved: July 17, 2008.
Timothy E. Skud,
Deputy Assistant Secretary of the Treasury.

[FR Doc. E8-16799 Filed 7-22-08; 8:45 am]

BILLING CODE 9111-14-P